DEPARTMENT OF TRANSPORTATION

Pipeline and Hazardous Materials Safety Administration

[Docket No. PHMSA-2012-0001]

Pipeline Safety: Implementation of the National Registry of Pipeline and Liquefied Natural Gas Operators

AGENCY: Pipeline and Hazardous Materials Safety Administration (PHMSA), DOT.

ACTION: Notice; Issuance of Advisory Bulletin.

SUMMARY: This notice advises owners and operators of pipeline facilities of PHMSA's plan regarding the implementation of the national registry of pipeline and liquefied natural gas operators.

FOR FURTHER INFORMATION CONTACT: Jamerson Pender, Information Resources Manager, (202) 366-0218 or by email at Jamerson.Pender@dot.gov.

SUPPLEMENTARY INFORMATION:

I. Background

PHMSA published a final rule in the Federal Register on November 26, 2010, (75 FR 72878), titled: “Pipeline Safety: Updates to Pipeline and Liquefied Natural Gas Reporting Requirements.” The final rule added two new sections, 49 CFR 191.22 and 195.64, to the pipeline safety regulations for the establishment of a national pipeline operator registry. The national pipeline operator registry is primarily applicable to operators that file electronic reports. The registry will be used by pipeline operators to obtain an Operator Identification (OPID) Number and notify PHMSA of certain actions. Operators will use the OPID number for electronic submissions such as incident and annual reports. The national pipeline operator registry will also be used to provide PHMSA with operator notifications related to actions such as company name changes, certain construction activities, and project planning.

The national pipeline operator registry became effective on January 1, 2012. In compliance with the Paperwork Reduction Act requirements, PHMSA issued a 60-day Federal Register notice on December 13, 2010, (75 FR 77694) and a 30-day Federal Register notice on November 10, 2011, (76 FR 70217) to gather and respond to comments on the actual forms used to collect information for the national pipeline operator registry.

PHMSA has issued this advisory bulletin to clarify the implementation of the national pipeline operator registry.

Advisory Bulletin (ADB-2012-01)

To: Owners and Operators of Pipeline Facilities.

Subject: Implementation of the Operator Identification Registry.

Advisory: This notice advises owners and operators of pipeline facilities of the implementation of the national pipeline operator registry.

Implementation of OPID Registry (Program Effective Date: January 1, 2012)

This table identifies the expected submission dates for the various submissions that are related to the national pipeline operator registry.

Action | Submission expected
OPID Assignment Requests: §§ 191.22(a) and 195.64(a) | Begins February 1, 2012 (Operators in need of an OPID prior to February 1, 2012, should contact the operator hotline at (202) 366-8075).
OPID Validation: §§ 191.22(b) and 195.64(b) | As specified in §§ 191.22(b) and 195.64(b), respectively (June 30, 2012).
Notification Submissions: §§ 191.22(c) and 195.64(c) |
—60-day “before” notifications for events occurring between January 1, 2012, and March 30, 2012 | January 31, 2012.
—60-day “before” notifications for events occurring after March 30, 2012 | As specified in §§ 191.22(c)(1) and 195.64(c)(1), respectively.
—60-day “after” notifications for events occurring on and after January 1, 2012 | As specified in §§ 191.22(c)(2) and 195.64(c)(2), respectively.

Here are a few clarifying questions and responses regarding the national pipeline operator registry.

Question 1:Sections 191.22(c)(1) and 195.64(c)(1), require the submission of a notification 60 days prior to “Construction or any planned * * * that costs $10 million or more * * *.” Some operators have multiple projects that are consolidated into a program. For example, an operator upgrades 10 meter sites over various systems within one OPID and each upgrade is documented as an individual project, but consolidated into one program to minimize costs, contractors, material, etc. Further, each meter site upgrade is expected to cost $1 million for a grand total of $10 million for the program. For reporting purposes, should the operator consider the 10 individual projects at $1 million each or as a program of $10 million?

Answer 1:The $10 million threshold applies to each project. Therefore, the consolidated projects specified in the example would not hit the $10 million threshold since each project is less than $10 million.

Question 2:Section 195.64(c)(1)(iii) requires operators to notify PHMSA of the construction of a new pipeline facility no later than 60 days before the construction occurs. PHMSA has received questions regarding the use of the term “pipeline facility” and whether it includes line pipe.

Answer 2:By definition (§ 195.2) a pipeline facility includes “new and existing pipe, right-of-ways, and any equipment, facility, or building used in the transportation of hazardous liquids or carbon dioxide.” However, for notification purposes of § 195.2(c)(iii), pipe is not included. This clarification also applies to § 195.2(c)(v), which requires notifications for the acquisition and divestitures of existing pipeline facilities.

Further details on how to file submissions are detailed at the following URL: http://opsweb.phmsa.dot.gov. Any questions regarding the filing of national pipeline operator registry submissions can be directed to the Office of Pipeline Safety operator helpline at (202) 366-8075.

Issued in Washington, DC, on January 6, 2012.
Jeffrey D. Wiese,
Associate Administrator for Pipeline Safety.

[FR Doc. 2012-618 Filed 1-12-12; 8:45 am]

BILLING CODE 4910-60-P